DEPARTMENT OF DEFENSE

Department of the Army

Notice of Availability for Exclusive, Non-Exclusive, or Partially-Exclusive Licensing of an Invention Concerning Extraction and Detection of Pathogens Using Carbohydrate-Functionalized Biosensors

AGENCY: Department of the Army, DoD.

ACTION: Notice.

SUMMARY: The invention provides extraction and detection of pathogens using carbohydrate-functionalized biosensors. Specific analyte can be achieved with an analyte probe having a detection moiety and a binding pair member specific to the target analyte of interest. Announcement is made of the availability for licensing of the invention set forth in U.S. Provisional Patent Application No. 61/528,892, entitled “Extraction and Detection of Pathogens Using Carbohydrate-Functionalized Biosensors,” filed on August 30, 2011. The United States Government, as represented by the Secretary of the Army, has rights to this invention. U.S. and selected foreign rights are available.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research and Technology Applications (ORTA), (301) 619-6664, both at telefax (301) 619-5034.

SUPPLEMENTARY INFORMATION: The invention relates to a method for detecting the presence of a target analyte, a kit for binding a target analyte and a target analyte complex. Various refinements and extensions of the foregoing methods, kits and target analyte complex are possible.

Brenda S. Bowen,
Army Federal Register Liaison Officer.

[FR Doc. 2012-21 Filed 1-5-12; 8:45 am]

BILLING CODE 3710-08-P